DEPARTMENT OF THE TREASURY

Office of Foreign Assets Control

Notice of OFAC Sanctions Actions.

AGENCY: Office of Foreign Assets Control, Department of the Treasury.

ACTION: Notice.

SUMMARY: The U.S. Department of the Treasury's Office of Foreign Assets Control (OFAC) is publishing the names of persons whose property and interests in property have been unblocked and have been removed from the list of Specially Designated Nationals and Blocked Persons (SDN List). Additionally, OFAC is publishing an update to the identifying information of one person currently included on the list of Specially Designated Nationals and Blocked Persons.

DATES: See Supplementary Information section for effective date(s).

FOR FURTHER INFORMATION CONTACT:

OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On December 1, 2021, OFAC determined that the property and interests in property subject to U.S. jurisdiction of the following persons are unblocked and they have been removed from the SDN List.

Individuals:

1. AGUDELO VELASQUEZ, Norberto Antonio (a.k.a. “AMADO”), Guasca, Cundinamarca, Colombia; DOB 20 Aug 1955; POB Colombia; nationality Colombia; citizen Colombia; Cedula No. 4590874 (Colombia) (individual) [SDNTK].

2. AGUILAR RAMIREZ, Gerardo Antonio (a.k.a. “CESAR”); DOB 20 Sep 1962; POB Colombia; Cedula No. 16148998 (Colombia); alt. Cedula No. 16447616 (Colombia) (individual) [SDNTK].

3. ALBAN BURBANO, Luis Alberto (a.k.a. ALBAN URBANO, Luis Alberto; a.k.a. CALARCA, Marco Leon; a.k.a. CALARCA, Marcos Leon); DOB 16 Aug 1957; POB Cali, Valle, Colombia; Cedula No. 16588328 (Colombia) (individual) [SDNTK].

4. ALCALA CORDONES, Cliver Antonio; DOB 21 Nov 1961; Cedula No. 6097211 (Venezuela); Major General of the Fourth Armored Division of the Venezuelan Army (individual) [SDNTK].

5. ALVIS PATINO, Gentil (a.k.a. LOPEZ, Angel Leopoldo; a.k.a. MARTINEZ VEGA, Juan Jose; a.k.a. PATINO ORTIZ, Alvis; a.k.a. “CHIGUIRO”; a.k.a. “GONZALEZ, Ruben”); DOB 04 Jun 1961; POB El Doncello, Caqueta, Colombia; Cedula No. 17669391 (Colombia); alt. Cedula No. 12059198 (Venezuela) (individual) [SDNTK].

6. BALLEN SOLANO, German, Bogota, Colombia; DOB 13 Sep 1958; citizen Colombia; Cedula No. 11254250 (Colombia) (individual) [SDNTK].

7. BOCOTA AGUABLANCA, Gustavo (a.k.a. BOGOTA, Gustavo; a.k.a. “ESTEVAN”; a.k.a. “TRIBISU”); DOB 28 Aug 1966; Cedula No. 9466199 (Colombia); alt. Cedula No. 9466833 (Colombia) (individual) [SDNTK].

8. BRICENO SUAREZ, German (a.k.a. SUAREZ ROJAS, Noe; a.k.a. “GRANOBLES”); DOB 15 Dec 1953; Cedula No. 347943 (Colombia) (individual) [SDNTK].

9. CABANA GUILLEN, Sixto Antonio (a.k.a. “BIOHO, Domingo”; a.k.a. “BIOJA, Domingo”); DOB 15 Jun 1955; POB Orihueca Cienaga, Magdalena, Colombia; nationality Colombia; citizen Colombia; Cedula No. 19500634 (Colombia) (individual) [SDNTK].

10. CABRERA, Jose Benito (a.k.a. CABRERA CUEVAS, Jose Benito; a.k.a. “EL MONO FABIAN”; a.k.a. “FABIAN RAMIREZ”); DOB 06 Jul 1963; alt. DOB 05 Jul 1965; POB El Paujil, Caqueta, Colombia; Cedula No. 96329309 (Colombia) (individual) [SDNTK].

11. CABRERA DIAZ, Hermilo (a.k.a. CABRERA DIAZ, Ermilo; a.k.a. “BERTULFO”); DOB 25 Nov 1941; POB Huila, Colombia; nationality Colombia; citizen Colombia; Cedula No. 9680080 (Colombia) (individual) [SDNTK].

12. CADENA COLLAZOS, Francisco Antonio (a.k.a. MEDINA, Oliverio; a.k.a. “CURA CAMILO”; a.k.a. “EL CURA”; a.k.a. “HUESITO”; a.k.a. “OLIVO”; a.k.a. “PACHO”), Colombia; Brazil; DOB 01 Jan 1947; citizen Colombia; Cedula No. 4904771 (Colombia); International FARC Commission Member for Brazil (individual) [SDNTK].

13. CAICEDO COLORADO, Abelardo (a.k.a. “SOLIS ALMEIDA”); DOB 03 Mar 1960; POB Mercaderes, Cauca, Colombia; nationality Colombia; citizen Colombia (individual) [SDNTK].

14. CALDERON DE TRUJILLO, Nubia (a.k.a. “ESPERANZA”), Colombia; DOB 25 Mar 1956; citizen Colombia; Cedula No. 36159126 (Colombia); International FARC Commission Member for Ecuador (individual) [SDNTK].

15. CALDERON VELANDIA, Nilson (a.k.a. “VILLA”), Colombia; DOB 18 Jul 1974; POB Mogotes, Santander, Colombia; nationality Colombia; citizen Colombia; Cedula No. 91348897 (Colombia); Passport AK040618 (Colombia) (individual) [SDNTK].

16. CAMACHO BERNAL, Jose Edilberto, Colombia; DOB 28 Feb 1954; POB Venecia, Cundinamarca, Colombia; nationality Colombia; citizen Colombia; Cedula No. 11374416 (Colombia); Passport AI222190 (Colombia) (individual) [SDNTK].

17. CAMACHO RINCON, Juan Manuel,c/o LULU COM, Bogota, Colombia; DOB 16 Feb 1980; citizen Colombia; Cedula No. 6107716 (Colombia) (individual) [SDNTK].

18. CAMARGO, Norbei (a.k.a. CAMARGO, Norbey; a.k.a. TRIANA, Hermer; a.k.a. “JAMES PATAMALA”; a.k.a. “JAMES PATAPALO”; a.k.a. “MUERTA PARADO”); DOB 05 Aug 1965; POB El Paujil, Caqueta, Colombia; nationality Colombia; citizen Colombia; Cedula No. 17702895 (Colombia) (individual) [SDNTK].

19. CARACAS VIVEROS, Oscar (a.k.a. “EL NEGRO OSCAR”); DOB 15 Nov 1967; POB Colombia; Cedula No. 96351739 (Colombia) (individual) [SDNTK].

20. CARVAJALINO, Jesus Emilio (a.k.a. “PARIS, Andres”); DOB 15 Mar 1955; POB Bogota, Colombia; Cedula No. 3228737 (Colombia); Passport AC192015 (Colombia) (individual) [SDNTK].

21. CASTILLO RODRIGUEZ, Flor Nelsy, Bogota, Colombia; citizen Colombia; Cedula No. 38260687 (Colombia) (individual) [SDNTK].

22. CONDE RUBIO, Nancy (a.k.a. “ALEXANDRA RUBIO SILVA”; a.k.a. “DORIS ADRIANA”; a.k.a. “LUZ DARY”; a.k.a. “MARITZA”), Colombia; DOB 02 Sep 1972; alt. DOB 19 Nov 1973; POB Bogota, Colombia; nationality Colombia; citizen Colombia; Cedula No. 20645502 (Colombia) (individual) [SDNTK].

23. CORREDOR IBAGUE, Jose Maria (a.k.a. “ANGEL ORTIZ”; a.k.a. “BOYACO”; a.k.a. “CARLOS ALBERTO HENAO”; a.k.a. “CHEPE”; a.k.a. “HECTOR JAIME SANCHEZ”; a.k.a. “JOSE ADRIAN RODRIGUEZ BUITRAGO”; a.k.a. “JOSE GILBERTO RODRIGUEZ PEREZ”; a.k.a. “JOSE LEONEL”), Colombia; DOB 17 Dec 1966; POB Santana, Boyaca, Colombia; nationality Colombia; citizen Colombia; Cedula No. 4241983 (Colombia) (individual) [SDNTK].

24. CUESTA LEON, Josue (a.k.a. “DON JULIO”; a.k.a. “EL VIEJO”), Colombia; DOB 26 Jan 1970; POB Ubala, Cundinamarca, Colombia; nationality Colombia; citizen Colombia; Cedula No. 97610086 (Colombia) (individual) [SDNTK].

25. CUEVAS CABRERA, Erminso (a.k.a. “MINCHO”); DOB 16 Sep 1960; POB El Paujil, Caqueta, Colombia; nationality Colombia; citizen Colombia; Cedula No. 96328518 (Colombia) (individual) [SDNTK].

26. CULMA SUNZ, Bladimir (a.k.a. CULMAN SANZ, Bladimir; a.k.a. “VLADIMIR”), Colombia; DOB 23 Sep 1979; POB El Castillo, Meta, Colombia; nationality Colombia; citizen Colombia; Cedula No. 86068233 (Colombia) (individual) [SDNTK].

27. DAVALOS TORRES, Jorge, Colombia; DOB 14 Dec 1972; citizen Colombia; Cedula No. 94377215 (Colombia); International FARC Commission Member for Canada (individual) [SDNTK].

28. DEVIA SILVA, Luis Edgar (a.k.a. “RAUL REYES”); DOB 30 Sep 1948; POB La Plata, Huila, Colombia; Cedula No. 14871281 (Colombia) (individual) [SDNTK].

29. DIAZ OREJUELA, Miguel Angel, c/o CAMBIOS EURO LTDA, Bogota, Colombia;c/o DIZRIVER Y CIA. S. EN C., Bogota, Colombia; DOB 15 May 1963; POB Bogota, Colombia; nationality Colombia; citizen Colombia; Cedula No. 17412428 (Colombia); Passport AI481119 (Colombia) (individual) [SDNTK].

30. FARFAN SUAREZ, Alexander (a.k.a. “ENRIQUE GAFAS”), Colombia; DOB 12 Feb 1973; POB San Jose del Guaviare, Guaviare, Colombia; nationality Colombia; citizen Colombia; Cedula No. 86007030 (Colombia) (individual) [SDNTK].

31. FONNEGRA ESPEJO, Adolfo, Zurich, Switzerland; Madrid, Spain; DOB 13 Feb 1962; POB Bogota, Colombia; citizen Colombia; Cedula No. 19462357 (Colombia); Passport AN971133 (Colombia) issued 03 Sep 2012 expires 03 Sep 2022 (individual) [SDNTK] (Linked To: ADOLFO FONNEGRA ESPEJO TRADING & INVESTMENT).

32. GALLEGO RUBIO, Maribel (a.k.a. “MARITZA”; a.k.a. “MERY”), Colombia; DOB 09 Apr 1984; POB Acacias, Meta, Colombia; nationality Colombia; citizen Colombia; Cedula No. 30946062 (Colombia); Passport AJ834783 (Colombia) (individual) [SDNTK].

33. GARCIA ALBERT, Maria Remedios (a.k.a. “IRENE”; a.k.a. “SORAYA”), Spain; DOB 17 Feb 1951; POB Avila, Spain; D.N.I. 00263695-T (Spain); International FARC Commission Member for Spain (individual) [SDNTK].

34. GARCIA MOLINA, Gener (a.k.a. “GUTIERREZ, Jhon”; a.k.a. “HERNANDEZ, John”; a.k.a. “JHON 40”; a.k.a. “JOHN 40”; a.k.a. “JOHNNY 40”); DOB 23 Aug 1963; POB San Martin, Meta, Colombia; Cedula No. 17353242 (Colombia) (individual) [SDNTK].

35. GONZALEZ ZAMORANO, Ivan, Zurich, Switzerland; DOB 19 Jul 1983; POB Cali, Colombia; citizen Colombia; Cedula No. 14621505 (Colombia) (individual) [SDNTK].

36. GRANDA ESCOBAR, Rodrigo (a.k.a. “CAMPOS, Arturo”; a.k.a. “GALLOPINTO”; a.k.a. “GONZALEZ, Ricardo”), Avenida Victoria No. 36, Urbanizacion Bolivar La Victoria, Jose Felix Rivas, Estado de Aragua, Venezuela; DOB 09 Apr 1949; POB Frontino, Antioquia, Colombia; Cedula No. 171493523-4 (Ecuador); alt. Cedula No. 19104578 (Colombia); Passport PO16104 (Colombia); Electoral Registry No. 22942118 (Venezuela) (individual) [SDNTK].

37. GUTIERREZ LARA, Liliana Paola, Bogota, Colombia; DOB 16 May 1983; citizen Colombia; Cedula No. 65557064 (Colombia) (individual) [SDNTK].

38. GUTIERREZ LARA, Mario Alejandro, Bogota, Colombia; Cedula No. 93086968 (Colombia) (individual) [SDNTK].

39. GUTIERREZ VERGARA, Luz Mery, Colombia; DOB 26 Apr 1977; POB Ubala, Cundinamarca, Colombia; nationality Colombia; citizen Colombia; Cedula No. 40442724 (Colombia) (individual) [SDNTK].

40. JIMENEZ URREGO, Maria Mercedes,c/o NEGOCIAMOS MCM LTDA, Bogota, Colombia; DOB 16 Jul 1968; citizen Colombia; Cedula No. 51921171 (Colombia) (individual) [SDNTK].

41. JIMENEZ URREGO, Blanca Virginia; DOB 29 May 1960; citizen Colombia; Cedula No. 21030774 (Colombia) (individual) [SDNTK].

42. JURADO PALOMINO, Orlay (a.k.a. “COMMANDER HERMES”; a.k.a. “LIBARDO ANTONIO BENAVIDES MONCAYO”), Colombia; DOB 09 Feb 1950; citizen Colombia; Cedula No. 7245990 (Colombia); International FARC Commission Member for Venezuela (individual) [SDNTK].

43. JUVENAL VELANDIA, Jose (a.k.a. MUNOZ ORTIZ, Manuel Jesus; a.k.a. “IVAN RIOS”); DOB 19 Dec 1961; POB San Francisco, Putumayo, Colombia; Cedula No. 71613902 (Colombia) (individual) [SDNTK].

44. LEAL GARCIA, Ignacio (a.k.a. “CAMILO”; a.k.a. “TUERTO”); DOB 26 Jul 1969; nationality Colombia; citizen Colombia; Cedula No. 96186610 (Colombia) (individual) [SDNTK].

45. LESMES BULLA, Jairo Alfonso (a.k.a. CALDERON, Javier), Colombia; DOB 25 Mar 1947; citizen Colombia; Cedula No. 17164408 (Colombia); International FARC Commission Member for Argentina, Chile, Uruguay, and Paraguay (individual) [SDNTK].

46. LISANDRO LASCARRO, Jose (a.k.a. MUNOZ LASCARRO, Felix Antonio; a.k.a. “PASTOR ALAPE”); DOB 04 Jun 1959; alt. DOB 1946; POB Puerto Berrio, Antioquia, Colombia; Cedula No. 71180715 (Colombia); alt. Cedula No. 3550075 (Colombia) (individual) [SDNTK].

47. LONDONO ECHEVERRY, Rodrigo (a.k.a. “TIMOCHENKO”; a.k.a. “TIMOLEON JIMENEZ”); DOB 22 Jan 1959; alt. DOB 01 Jan 1949; POB Calarca, Quindio, Colombia; Cedula No. 79149126 (Colombia) (individual) [SDNTK].

48. LOPEZ MENDEZ, Luis Eduardo (a.k.a. LOPEZ MENDEZ, Alfonso; a.k.a. “EFREN ARBOLEDA”); nationality Colombia; citizen Colombia; Cedula No. 96329889 (Colombia) (individual) [SDNTK].

49. LOPEZ PALACIOS, Liliana (a.k.a. LUCIA MARIN, Olga), Colombia; DOB 21 Sep 1961; citizen Colombia; Cedula No. 51708175 (Colombia); International FARC Commission Member for Mexico (individual) [SDNTK].

50. MADRIZ MORENO, Ramon Isidro (a.k.a. “AMIN”); DOB 04 Apr 1957; Cedula No. 6435192 (Venezuela); Officer, Venezuelan Intelligence Service—SEBIN (individual) [SDNTK].

51. MARIN, Pedro Antonio (a.k.a. MARIN MARIN, Pedro Antonio; a.k.a. “MANUEL MARULANDA”; a.k.a. “MANUEL MARULANDA VELEZ”; a.k.a. “TIROFIJO”); DOB 13 May 1930; POB Genova, Quindio, Colombia; Cedula No. 4870142 (Colombia) (individual) [SDNTK].

52. MATA MATA, Noel (a.k.a. MATTA MATTA, Noel; a.k.a. “EFRAIN GUZMAN”; a.k.a. “EL CHUCHO”); DOB 31 Jan 1935; alt. DOB 30 Jan 1935; POB Chaparral, Tolima, Colombia; Cedula No. 4870352 (Colombia) (individual) [SDNTK].

53. MELO PERILLA, Jose Cayetano, c/o CARILLANCA COLOMBIA Y CIA S EN CS, Bogota, Colombia; c/o CARILLANCA S.A., San Jose, Costa Rica; c/o CARILLANCA C.A., Arismendi, Nueva Esparta, Venezuela; c/o PARQUEADERO DE LA 25-13, Bogota, Colombia; c/o AGROPECUARIA SAN CAYETANO DE COSTA RICA LTDA, San Jose, Costa Rica; c/o ARROCERA EL GAUCHO S.A., San Jose, Costa Rica; DOB 07 Nov 1957; POB Ibague, Tolima, Colombia; citizen Colombia; Cedula No. 5882964 (Colombia); Passport 5882964 (Colombia); Residency Number 003-5506420-0100028 (Costa Rica) (individual) [SDNTK].

54. MOLINA CARACAS, Tomas (a.k.a. CASTILLO CORTES, Miguel Angel; a.k.a. MEDINA CARACAS, Tomas; a.k.a. “ARTURO GUEVARA”; a.k.a. “EL PATRON'”; a.k.a. “JORGE MEDINA”; a.k.a. “NEGRO ACACIO”); DOB 15 Mar 1965; POB Lopez De Micay, Cauca, Colombia (individual) [SDNTK].

55. MOLINA GONZALEZ, Jose Epinemio (a.k.a. MOLINA GONZALEZ, Jose Epimenio; a.k.a. “DANILO GARCIA”); DOB 18 Nov 1957; POB Icononzo, Tolima, Colombia; nationality Colombia; citizen Colombia; Cedula No. T.I. 57111-01681 (Colombia) (individual) [SDNTK].

56. MONTENEGRO VALLEJOS, Gilma, Colombia; DOB 17 Jul 1969; POB Bogota, Colombia; citizen Colombia (individual) [SDNTK].

57. MORALES LOAIZA, Edilma (a.k.a. “CAROLINA”; a.k.a. “GLADYS GOMEZ SOLANO”; a.k.a. “MARIA OFELIA”; a.k.a. “MARUCHA”), Colombia; DOB 29 Dec 1974; POB Lejanias, Meta, Colombia; nationality Colombia; citizen Colombia; Cedula No. 40356505 (Colombia) (individual) [SDNTK].

58. OLARTE LOMBANA, Alonso (a.k.a. GUZMAN FLOREZ, Reinel; a.k.a. “LUIS EDUARDO MARIN”; a.k.a. “RAFAEL GUTIERREZ”); DOB 07 Nov 1960; alt. DOB 11 Apr 1957; POB Bogota, Colombia; alt. POB Natagaima, Tolima, Colombia; nationality Colombia; citizen Colombia; Cedula No. 18260876 (Colombia) (individual) [SDNTK].

59. OSTAIZA AMAY, Edison Ariolfo, c/o MULTINACIONAL INTEGRAL PRODUCTIVA JOOAMY EMA, Quito, Pichincha, Ecuador; DOB 19 Jul 1975; citizen Ecuador; Cedula No. 1713602009 (Ecuador); Passport 1713602009 (Ecuador) (individual) [SDNTK].

60. OSTAIZA AMAY, Miguel Angel, Ecuador; DOB 08 Dec 1976; POB Ecuador; citizen Ecuador; Cedula No. 1713513834 (Ecuador); Passport 1713513834 (Ecuador) (individual) [SDNTK].

61. OSTAIZA AMAY, Jefferson Omar, c/o MULTINACIONAL INTEGRAL PRODUCTIVA JOOAMY EMA, Quito, Pichincha, Ecuador; DOB 16 Nov 1973; POB Santo Domingo, Ecuador; citizen Ecuador; Cedula No. 1712394947 (Ecuador); Passport 1712394947 (Ecuador) (individual) [SDNTK].

62. PASCUAS SANTOS, Miguel Angel (a.k.a. “HUMBERTO”; a.k.a. “SARGENTO PASCUAS”); DOB 28 Apr 1952; POB Tello, Huila, Colombia; nationality Colombia; citizen Colombia; Cedula No. 12160124 (Colombia) (individual) [SDNTK].

63. PAVA GIRALDO, Dora Lilia, c/o COMERCIALIZADORA COLOMBIAN MONEY EXCHANGE LTDA., Bogota, Colombia; DOB 22 Nov 1971; POB Colombia; nationality Colombia; citizen Colombia; Cedula No. 39771709 (Colombia) (individual) [SDNTK].

64. PENA AREVALO, Ana Isabel (a.k.a. “DONA CHAVA”; a.k.a. “DONA ELISA”; a.k.a. “DONA ISA”; a.k.a. “ISABELA”), Colombia; DOB 24 Aug 1962; POB Pacho, Cundinamarca, Colombia; nationality Colombia; citizen Colombia; Cedula No. 20794356 (Colombia) (individual) [SDNTK].

65. PENA PACHECO, Jose Vicente (Latin: PEÑA PACHECO, Jose Vicente) (a.k.a. PENA PACHECO, Jose Vincente), Zurich, Switzerland; DOB 19 Jul 1968; POB Necocli, Antioquia, Colombia; citizen Colombia; Cedula No. 8188270 (Colombia); alt. Cedula No. 84497137 (Venezuela); Passport AG219114 (Colombia); alt. Passport AJ593373 (Colombia) (individual) [SDNTK] (Linked To: COLOMBIANO LATIN SHOP GMBH).

66. PEREZ CORDOBA, Jose Maria, Bogota, Colombia; Cedula No. 93085488 (Colombia) (individual) [SDNTK].

67. PINEDA PALMERA, Juvenal Ovidio (a.k.a. PALMERA PINEDA, Juvenal Ovidio Ricardo; a.k.a. “SIMON TRINIDAD”); DOB 30 Jul 1950; POB Bogota, Cundinamarca, Colombia; Cedula No. 12715418 (Colombia); alt. Cedula No. 12751418 (Colombia); alt. Cedula No. 12715416 (Colombia); Passport T757205 (Colombia); alt. Passport AC204175 (Colombia); alt. Passport AH182002 (Colombia) (individual) [SDNTK].

68. QUIMBAYO CABEZAS, Elsa, Bogota, Colombia; citizen Colombia; Cedula No. 65550166 (Colombia) (individual) [SDNTK].

69. RODRIGUEZ CHACIN, Ramon Emilio, Venezuela; DOB 25 Sep 1949; nationality Venezuela; Gender Male; Cedula No. 3169119 (Venezuela); Passport 045723759 (Venezuela); Former Minister of Interior and Justice of Venezuela (individual) [SDNTK].

70. RINCON MOLINA, Myriam, c/o CAMBIOS EL TREBOL, Bogota, Colombia; DOB 29 Jan 1959; POB Girardot, Cundinamarca, Colombia; nationality Colombia; citizen Colombia; Cedula No. 20622294 (Colombia); Passport AK739055 (Colombia) (individual) [SDNTK].

71. RINCON MOLINA, Jose Manuel, Bogota, Colombia; Cedula No. 11299940 (Colombia) (individual) [SDNTK].

72. RODRIGO VEGA, Vlaudin (a.k.a. “CARLOS VLAUDIN”), Australia; DOB 03 Mar 1960; citizen Chile; Passport J1722726 (Chile); International FARC Commission Member for Australia (individual) [SDNTK].

73. RODRIGUEZ MENDIETA, Jorge Enrique (a.k.a. “IVAN VARGAS”); DOB 15 Jan 1963; POB Giron, Santander, Colombia; nationality Colombia; citizen Colombia; Cedula No. 91223461 (Colombia) (individual) [SDNTK].

74. ROPERO SUAREZ, Emiro del Carmen (a.k.a. “RUBEN ZAMORA”); DOB 02 Sep 1962; POB Municipio de Nueva Granada, Norte de Santander, Colombia; nationality Colombia; citizen Colombia; Cedula No. 13461523 (Colombia) (individual) [SDNTK].

75. RUEDA GIL, Camilo (a.k.a. “EL PAISA”; a.k.a. “EL PRIMO”; a.k.a. “MUNECA”), Colombia; DOB 03 Aug 1969; POB Bogota, Colombia; nationality Colombia; citizen Colombia; Cedula No. 79499884 (Colombia); Passport AJ520060 (Colombia) (individual) [SDNTK].

76. SAENZ VARGAS, Guillermo Leon (a.k.a. “ALFONSO CANO”); DOB 22 Jul 1948; POB Bogota, Cundinamarca, Colombia; Cedula No. 17122751 (Colombia) (individual) [SDNTK].

77. SALINAS PEREZ, Ovidio (a.k.a. ROJAS, Juan Antonio; a.k.a. “EL EMBAJADOR”; a.k.a. “JOSE LUIS”), Colombia; DOB 03 Jul 1945; citizen Colombia; Cedula No. 17125959 (Colombia); International FARC Commission Member for Panama (individual) [SDNTK].

78. SERPA DIAZ, Alvaro Alfonso (a.k.a. CERPA DIAZ, Alvaro Alfonso; a.k.a. CERPA DIAZ, Tiberio Antonio; a.k.a. SERPA DIAZ, Alvaro Enrique; a.k.a. “FELIPE RINCON”); DOB 28 Mar 1959; alt. DOB 09 Oct 1956; POB San Jacinto, Bolivar, Colombia; alt. POB Cali, Colombia; Cedula No. 6877656 (Colombia) (individual) [SDNTK].

79. SOLARTE CERON, Olidem Romel (a.k.a. SOLARTE CERON, Oliver), Colombia; DOB 05 Feb 1971; citizen Colombia; Cedula No. 18153797 (Colombia) (individual) [SDNTK].

80. SUAREZ ROJAS, Victor Julio (a.k.a. “MONO JOJOY”; a.k.a. “OSCAR RIANO”; a.k.a. “SUAREZ, Luis”); DOB 01 Feb 1949; alt. DOB 02 Jan 1951; alt. DOB 05 Feb 1953; POB Cabrera, Cundinamarca, Colombia; Cedula No. 19208210 (Colombia); alt. Cedula No. 17708695 (Colombia) (individual) [SDNTK].

81. TONCEL REDONDO, Milton De Jesus (a.k.a. “EL NEGRO”; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia) (individual) [SDNTK].

82. TORRES, Ana Leonor (a.k.a. “CATA”; a.k.a. “CATALINA”; a.k.a. “JULIANA”; a.k.a. “MARIA”), Colombia; DOB 05 Sep 1961; POB Puerto Lopez, Meta, Colombia; nationality Colombia; citizen Colombia; Cedula No. 21243624 (Colombia) (individual) [SDNTK].

83. TORRES CUETER, Guillermo Enrique (a.k.a. “JULIAN CONRADO”); DOB 17 Aug 1954; POB Turbaco, Bolivar, Colombia; nationality Colombia; citizen Colombia; Cedula No. 9281858 (Colombia) (individual) [SDNTK].

84. TORRES VICTORIA, Jorge (a.k.a. “PABLO CATATUMBO”); DOB 19 Mar 1953; POB Cali, Valle, Colombia; Cedula No. 14990220 (Colombia) (individual) [SDNTK].

85. TOVAR PARRA, Ferney (a.k.a. “DIEGO”; a.k.a. “FERCHO”); DOB 17 Nov 1966; POB Cartagena del Chaira, Caqueta, Colombia; Cedula No. 17640605 (Colombia) (individual) [SDNTK].

86. TRASLAVINA BENAVIDES, Erasmo (a.k.a. “ISMARDO MURCIA LOZADA”; a.k.a. “ISNARDO MURCIA LOZADA”; a.k.a. “JIMMY GUERRERO”); DOB 19 Jun 1958; POB Guacamayo, Santander, Colombia; nationality Colombia; citizen Colombia; Cedula No. 13642033 (Colombia) (individual) [SDNTK].

87. TREJO FREIRE, Efrain Pablo (a.k.a. TREJOS FREYRE, Pablo), Colombia; DOB 07 Jun 1951; citizen Colombia; Cedula No. 13004986 (Colombia); International FARC Commission Member for Peru (individual) [SDNTK].

88. VARGAS ALBA, Cesar Augusto, c/o COMERCIALIZADORA COLOMBIAN MONEY EXCHANGE LTDA., Bogota, Colombia; DOB 27 Aug 1969; POB Colombia; nationality Colombia; citizen Colombia; Cedula No. 79578481 (Colombia); Passport AI980101 (Colombia) (individual) [SDNTK].

89. VARGAS ALBA, Jorge Leandro (a.k.a. “EL CANOSO”), c/o COMERCIALIZADORA COLOMBIAN MONEY EXCHANGE LTDA., Bogota, Colombia; DOB 17 Jan 1968; POB Colombia; nationality Colombia; citizen Colombia; Cedula No. 17642230 (Colombia); Passport AI263725 (Colombia) (individual) [SDNTK].

90. VARGAS ARIAS, Jorge Eliecer, c/o COMERCIALIZADORA COLOMBIAN MONEY EXCHANGE LTDA., Bogota, Colombia; Calle 165 No. 25-65 Apartamento 503, Bogota, Colombia; DOB 22 Nov 1952; POB Colombia; nationality Colombia; citizen Colombia; Cedula No. 4894606 (Colombia); Passport 4894606 (Colombia) (individual) [SDNTK].

91. VARGAS PERDOMO, Eugenio (a.k.a. DORNELES DE MENEZES, Francisco; a.k.a. “CARLOS BOLAS”); DOB 19 Nov 1969; POB Puerto Lopez, Meta, Colombia; Cedula No. 17344616 (Colombia) (individual) [SDNTK].

92. ZABALA PADILLA, Omar Arturo (a.k.a. ZABALA PADILLA, Omar Enrique; a.k.a. “LUCAS GUALDRON”), Colombia; DOB 11 Jul 1969; POB Bucaramanga, Colombia; nationality Colombia; Cedula No. 91267294 (Colombia); International FARC Commission Member for France, Italy, and Switzerland (individual) [SDNTK].

Entities:

1. ADOLFO FONNEGRA ESPEJO TRADING & INVESTMENT, Badenerstrasse 791, Zurich 8048, Switzerland; Commercial Registry Number CH-020.1.066.499-9 (Switzerland); Company Number CHE-427.006.032 (Switzerland) [SDNTK].

2. AGROPECUARIA SAN CAYETANO DE COSTA RICA LTDA, Centro Comercial El Lago, San Rafael de Escazu, San Jose, Costa Rica; Commercial Registry Number CJ 3-102-285524 (Costa Rica) [SDNTK].

3. ARROCERA EL GAUCHO S.A., De la Embajada de Estados Unidos, 300 metros Norte, 25 metros Este, Rohrmoser, San Jose, Costa Rica; Commercial Registry Number CJ 3101304888 (Costa Rica) [SDNTK].

4. CAMBIOS EL TREBOL, Avenida Calle 26 No 69C-03 Local 214, Bogota, Colombia; Commercial Registry Number 1404087 (Colombia) [SDNTK].

5. CAMBIOS EURO LTDA, Carrera 7 No. 115-60 Local F-109, Bogota, Colombia; NIT # 830102482-6 (Colombia) [SDNTK].

6. CARILLANCA C.A., Arismendi, Nueva Esparta, Venezuela; Registration ID 80081030 (Venezuela) [SDNTK].

7. CARILLANCA COLOMBIA Y CIA S EN CS (f.k.a. AGROPECUARIA SAN CAYETANO S EN CS), Calle 100 No. 60-04, Ofc. 504, Bogota, Colombia; NIT # 800241061-5 (Colombia) [SDNTK].

8. CARILLANCA S.A., De la Iglesia Catolica de Parasito de Moravia, 650 metros al Este, San Jose, Costa Rica; Registration ID CJ 3101104500 (Costa Rica) [SDNTK].

9. COLOMBIANO LATIN SHOP GMBH, Dienerstrasse 72, Zurich 8004, Switzerland; Commercial Registry Number CH-020.4.053.829-6 (Switzerland); Company Number CHE-336.114.192 (Switzerland) [SDNTK].

10. COMERCIALIZADORA COLOMBIAN MONEY EXCHANGE LTDA., Avenida 40 No. 26C-10 Local 304, Villavicencio, Colombia; Calle 82 No. 11-75 Local 164, Bogota, Colombia; Carrera 15 No. 90-36 Local 101, Bogota, Colombia; NIT # 830090469-6 (Colombia) [SDNTK].

11. COMUNICACIONES UNIDAS DE COLOMBIA LTDA (f.k.a. RADIO COMUNICACIONES SUR DEL GUAVIARE LTDA), Calle 38 No. 33-72 Oficina 202, Villavicencio, Colombia; NIT # 822000712-8 (Colombia) [SDNTK].

12. DIZRIVER Y CIA. S. EN C., Carrera 68B No. 78-24 Unidad 23 Interior 5 Apartamento 402, Bogota, Colombia; NIT # 900013642-1 (Colombia) [SDNTK].

13. EXCHANGE CENTER LTDA, Avenida Carrera 19 No. 122-49 Local 13, Bogota, Colombia; Calle 183 No 45-03 Local 328, Bogota, Colombia; NIT # 830003608-2 (Colombia) [SDNTK].

14. INVERSIONES GRANDA RESTREPO Y CIA S.C.S. (a.k.a. INGRANRES), Carrera 4 No. 24-37 Trr. B Apto. 202, Bogota, Colombia; NIT # 830002677-6 (Colombia) [SDNTK].

15. LA MONEDITA DE ORO LTDA, Carrera 7 No. 115-60 Local C227, Bogota, Colombia; NIT # 800149502-9 (Colombia) [SDNTK].

16. LULU COM, Carrera 100 No. 221-12, Bogota, Colombia; Matricula Mercantil No 1783623 (Colombia) [SDNTK].

17. MULTINACIONAL INTEGRAL PRODUCTIVA JOOAMY EMA, Avenida Amazonas 40-80 y Union Nacional De Periodistas, Edificio Puertas del Sol, Piso 6, Quito, Pichincha, Ecuador; RUC # 1792068347001 (Ecuador) [SDNTK].

18. NEGOCIAMOS MCM LTDA, Avenida Calle 26 No. 69C-03, Local 214, Bogota, Colombia; NIT # 830105059-7 (Colombia) [SDNTK].

19. PARQUEADERO DE LA 25-13, Bogota, Colombia; Matricula Mercantil No 1362098 (Colombia); alt. Matricula Mercantil No 1362093 (Colombia) [SDNTK].

20. REVOLUTIONARY ARMED FORCES OF COLOMBIA (a.k.a. FARC; a.k.a. FUERZAS ARMADAS REVOLUCIONARIAS DE COLOMBIA) [SDNTK] [FTO] [SDGT].

Additionally, on December 1, 2021, OFAC updated the SDN List for the following person, whose property and interests in property continue to be blocked under the relevant sanctions authority listed below.

1. BERNAL ROSALES, Freddy Alirio, Caracas, Capital District, Venezuela; DOB 16 Jun 1962; POB San Cristobal, Tachira State, Venezuela; Gender Male; Cedula No. 5665018 (Venezuela); Passport B0500324 (Venezuela); Venezuela's Minister of Urban Agriculture (individual) [SDNTK] [VENEZUELA].

The listing for this previously designated person now appears as follows:

1. BERNAL ROSALES, Freddy Alirio, Caracas, Capital District, Venezuela; DOB 16 Jun 1962; POB San Cristobal, Tachira State, Venezuela; Gender Male; Cedula No. 5665018 (Venezuela); Passport B0500324 (Venezuela); Venezuela's Minister of Urban Agriculture (individual) [VENEZUELA].

Dated: December 1, 2021.
Gregory T. Gatjanis,
Associate Director, Office of Global Targeting, Office of Foreign Assets Control.

[FR Doc. 2021-26484 Filed 12-6-21; 8:45 am]

BILLING CODE 4810-AL-P